DEPARTMENT OF HEALTH AND HUMAN SERVICES

Centers for Medicare & Medicaid Services

[CMS-5506-N]

Medicare Program: Comprehensive End-Stage Renal Disease Care Model Announcement

AGENCY: Centers for Medicare & Medicaid Services (CMS), HHS.

ACTION: Notice.

SUMMARY: This notice announces a request for applications from organizations to participate in the testing of the Comprehensive End-Stage Renal Disease (ESRD) Care Model, a new initiative from the Center for Medicare and Medicaid Innovation (Innovation Center), for a period beginning in 2013 and ending in 2016, with a possible extension into subsequent years.

DATES: Letter of Intent Submission Deadline: Interested organizations must submit a non-binding letter of intent on or before March 15, 2013.

Application Submission Deadline: Applications must be received on or before May 1, 2013.

FOR FURTHER INFORMATION CONTACT:

Daniel Farmer, (410) 786-5497 or Email ESRD-CMMI@cms.hhs.gov.

SUPPLEMENTARY INFORMATION:

I. Background

The Center for Medicare and Medicaid Innovation (Innovation Center), within the Centers for Medicare & Medicaid Services (CMS), was created to develop and test innovative health care payment and service delivery models that show promise of reducing program expenditures, while preserving or enhancing the quality of care for Medicare, Medicaid, and Children's Health Insurance Program (CHIP) beneficiaries.

We are interested in identifying models designed to improve care for specific populations. One population is beneficiaries with end-stage renal disease (ESRD). This population has complex health care needs, typically with comorbid conditions and disease complications, which require extensive care coordination services. To promote seamless and integrated care for beneficiaries with ESRD, a comprehensive care delivery model would emphasize coordination of a full-range of clinical and non-clinical services across providers, suppliers, and settings. This may be best achieved through the establishment of an interdisciplinary care team that is led by a nephrologist, comprised of dialysis facilities, health care professionals, paraprofessionals, and non-traditional health providers.

Through the Comprehensive ESRD Care Model, we seek to identify ways to improve the coordination and quality of care for this population, while lowering total per-capita expenditures to the Medicare program. We anticipate that the Comprehensive ESRD Care Model would result in improved health outcomes for beneficiaries with ESRD regarding the functional status, quality of life, and overall well-being, as well as increased beneficiary and caregiver engagement, and lower costs to Medicare through improved care coordination.

II. Provisions of the Notice

Section 1115A of the Social Security Act (the Act), as added by section 3021 of the Affordable Care Act, authorizes the Innovation Center to test innovative payment and service delivery models that reduce spending under Medicare, Medicaid or CHIP, while preserving or enhancing the quality of care. Under this authority, we seek to test whether establishing new incentives for dialysis facilities, nephrologists, and other healthcare providers and suppliers to improve the care delivered to Medicare beneficiaries living with ESRD will result in better outcomes through the implementation of the Comprehensive ESRD Care Model.

Under the Comprehensive ESRD Care Model, CMS will enter shared financial risk arrangements through “Participation Agreements” with organizations comprised of dialysis facilities, nephrologists, and other Medicare providers and suppliers. Participating organizations will be clinically and financially accountable for care provided to a group of beneficiaries with ESRD that will be attributed to these organizations based on the beneficiaries' historical and ongoing care patterns. Those organizations that are successful in improving beneficiary outcomes and lowering per capita Medicare Parts A and B expenditures will be able to share in Medicare savings generated. However, those organizations that do not improve outcomes and lower costs may be subject to losses. Final shared savings amounts and shared loss amounts will be based on the organization's performance on specified quality measures.

Organizations interested in applying to participate in the testing of the Comprehensive ESRD Care Model must submit a non-binding letter of intent and an application. Applications will not be accepted from organizations that did not submit a letter of intent. The letter of intent and application must be received by the dates specified in the DATES section of this notice.

For additional information on the Comprehensive ESRD Care Model and how to apply, click on the Request for Applications located on the Innovation Center Web site at: innovation.cms.gov/initiatives/comprehensive-ESRD-care.

III. Collection of Information Requirements

Section 1115A(d)(3) of the Act, as added by section 3021 of the Affordable Care Act, states that Chapter 35 of title 44, United States Code (the Paperwork Reduction Act of 1995), shall not apply to the testing and evaluation of models or expansion of such models under this section. Consequently, it need not be reviewed by the Office of Management and Budget under the authority of the Paperwork Reduction Act of 1995.

(No. 93.773 Medicare—Hospital Insurance Program; and No. 93.774, Medicare-Supplementary Medical Insurance Program)

Dated: January 25, 2013.
Marilyn Tavenner,
Acting Administrator, Centers for Medicare & Medicaid Services.

[FR Doc. 2013-02194 Filed 2-4-13; 4:15 pm]

BILLING CODE 4120-01-P